DEPARTMENT OF TRANSPORTATION

Federal Aviation Administration

[Docket No. 2002ACE-01-CS]

Security Enhancement Issues for Smaller, Non-Transport Category Airplanes

AGENCY: Federal Aviation Administration (FAA) DOT.

ACTION: Request for comments.

SUMMARY: The purpose of this Request for comments is to obtain public input to the Aviation and Transportation Security Act (ATSA), Public Law 107-71. Paragraph 104(c), which addresses securing the flight deck of Commuter Aircraft. We recognize Commuter Aircraft as small non-transport category airplanes. This portion of the ATSA applies to all scheduled passenger aircraft operating in air transportation or intrastate air transportation. The Law does not single out types of airplanes, but rather how the airplanes are operated. Therefore, the FAA, considers all non-transport category airplanes in scheduled operations in accordance with 14 CFR Parts 119, 121, 135, and 129 affected by the ATSA. A preliminary study indicated that small airplanes approved to operate with ten to nineteen passengers that operate in scheduled operations should be further examined for potential ways to improve flight deck security. The same preliminary study of airplanes with nine or less passenger seats that operate in scheduled operations should also be examined for potential ways to improve general security.

DATES: Comments must be received on or before May 25, 2002.

ADDRESSES: Submit comments to FAA, Central Region, Office of the Regional Counsel, Attention: Rules Docket No. 2002ACE-01-CS, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002ACE-01-CS” in the subject line. If you send comments electronically as attached electronic files, the files must be formatted in Microsoft Word 97 for Windows or ASCII text.

FOR FURTHER INFORMATION CONTACT: Gunnar Berg, Project Support ACE-112, 901 Locust, Room 301, Kansas City, MO 64106, telephone (816) 329-4112.

SUPPLEMENTARY INFORMATION:

Comments Invited

For Those Airplanes Carrying 10 to 19 Passengers

One solution that the FAA is considering is requiring airplanes type certificated in accordance with 14 CFR part 23, Civil Air Regulations Part 3, Special Federal Aviation Regulations (SFAR) 23, or SFAR 41, and operated in accordance with parts 135, 119, 121, and 129 that carry ten to nineteen passengers in scheduled service to be modified by installation of a rigid fixed door with a lock between the flight deck area and the passenger area. We are requesting public input from manufacturers, owners, operators and other interested public entities before any official FAA action in this regard is taken. Specifically the FAA is interested in public comment on the following issues:

a. The feasibility and practicality of installing a rigid door and lock in these airplanes.

2. What advantages and disadvantages to having a door with a lock on airplanes that carry ten to nineteen passengers and what operating burdens would be felt.

3. Any other methods or means of securing the flight deck of these airplanes.

4. Any ideas regarding other means of improving the security of these airplanes in a general sense, not just isolation of the flight deck from the passengers.

For those small airplanes approved for nine or less passengers, that operate in scheduled operations

The initial review recently completed by the FAA indicates that those airplanes that operate in scheduled operations that were type certificated for nine or fewer passengers, should not be subjected to any measures to isolate the flight deck from the passenger areas. The FAA is, however, still interested in improving the security of these airplanes. We are requesting public input from manufactures, owners, operators, and other interested public entities before any official FAA action in this regard is taken. Specifically the FAA is interested in public comments on the following issues:

1. Justification for not installing a rigid door and lock in these airplanes based on feasibility and practicality.

2. Any other methods or means, of securing the flight deck of these airplanes.

3. Any means that could be employed that would improve the general security of these airplanes.

Issued in Kansas City, Missouri, on March 25, 2002.
James E. Jackson,
Acting Manager, Small Airplane Directorate, Aircraft Certification Service.

[FR Doc. 02-7962 Filed 4-1-02; 8:45 am]

BILLING CODE 4910-13-M